SECURITIES AND EXCHANGE COMMISSION

[Release No. IC-26862]

Notice of Applications for Deregistration Under Section 8(f) of the Investment Company Act of 1940

April 29, 2005.

The following is a notice of applications for deregistration under section 8(f) of the Investment Company Act of 1940 for the month of April, 2005. A copy of each application may be obtained for a fee at the SEC's Public Reference Branch, 450 Fifth St., NW., Washington, DC 20549-0102 (tel. 202-551-5850). An order granting each application will be issued unless the SEC orders a hearing. Interested persons may request a hearing on any application by writing to the SEC's Secretary at the address below and serving the relevant applicant with a copy of the request, personally or by mail. Hearing requests should be received by the SEC by 5:30 p.m. on May 24, 2005, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 551-6810, SEC, Division of Investment Management, Office of Investment Company Regulation, 450 Fifth Street, NW., Washington, DC 20549-0504.

Series Portfolio II [File No. 811-8077]

Summary: Applicant seeks an order declaring that it has ceased to be an investment company. On September 1, 2001, applicant transferred its assets to corresponding series of J.P. Morgan Mutual Fund Trust and J.P. Morgan Institutional Funds, based on net asset value. All expenses incurred in connection with the reorganization were paid by J.P. Morgan Chase & Co., applicant's investment adviser.

Filing Dates: The application was filed on April 5, 2005, and amended on April 13, 2005.

Applicant's Address: J.P. Morgan Investment Management Inc., 522 Fifth Ave., New York, NY 10036.

The Series Portfolio [File No. 811-9008]

Summary: Applicant seeks an order declaring that it has ceased to be an investment company. On September 1, 2001, applicant transferred its assets to corresponding series of J.P. Morgan Mutual Fund Group and J.P. Morgan Institutional Funds, based on net asset value. All expenses incurred in connection with the reorganization were paid by J.P. Morgan Chase & Co., applicant's investment adviser.

Filing Dates: The application was filed on April 5, 2005, and amended on April 13, 2005.

Applicant's Address: J.P. Morgan Investment Management Inc., 522 Fifth Ave., New York, NY 10036.

Oppenheimer Trinity Large Cap Growth Fund [File No. 811-8613]; Oppenheimer Trinity Core Fund [File No. 811-9361]; Oppenheimer Trinity Value Fund [File No. 811-9365]

Summary: Each applicant seeks an order declaring that it has ceased to be an investment company. By September 19, 2003, applicants had transferred their assets to Oppenheimer Growth Fund, Oppenheimer Main Street Funds, Inc. and Oppenheimer Series Fund, Inc., respectively, based on net asset value. Expenses of approximately $37,107, $35,172 and $26,985, respectively, incurred in connection with the reorganizations were paid by applicants.

Filing Date: The applications were filed on April 6, 2005.

Applicants' Address: 6803 S. Tucson Way, Centennial, CO 80112.

Putnam Master Income Trust [File No. 811-5375]

Summary: Applicant, a closed-end management company, seeks an order declaring that it has ceased to be an investment company. On February 28, 2005, applicant transferred its assets to Putnam Premier Income Trust, based on net asset value. Expenses of approximately $889,072 incurred in connection with the reorganization were paid by applicant, the acquiring fund and Putnam Investment Management LLC, applicant's investment adviser.

Filing Date: The application was filed on April 6, 2005.

Applicant's Address: One Post Office Sq., Boston, MA 02109.

CBA Money Fund [File No. 811-3703]

Summary: Applicant seeks an order declaring that it has ceased to be an investment company. November 22, 2004, applicant made a liquidating distribution to its shareholders, based on net asset value. Expenses of $68,000 incurred in connection with the liquidation were paid by Fund Asset Management, L.P., applicant's investment adviser.

Filing Date: The application was filed on April 15, 2005.

Applicant's Address: 800 Scudders Mill Rd., Plainsboro, NJ 08543-9011.

The Maryland Tax-Exempt Trust, Series 1 [File No. 811-2880]

Summary: Applicant, a unit investment trust, seeks an order declaring that it has ceased to be an investment company. On June 8, 2004, applicant made a liquidating distribution to its unitholders, based on net asset value. The assets of 4 outstanding unitholders remain on applicant's transfer agency system. These assets will be distributed to the remaining unitholders upon presentation of their units. Any unclaimed assets will escheat to the state of the unitholder's residence. Applicant incurred no expenses in connection with the liquidation.

Filing Date: The application was filed on March 22, 2005.

Applicant's Address: 100 Light St., Baltimore, MD 21202.

Chesapeake Investors, Inc. [File No. 811-3087]

Summary: Applicant, a closed-end investment company, seeks an order declaring that it has ceased to be an investment company. On or about February 7, 2005, applicant made a liquidating distribution to its shareholders, based on net asset value. Applicant's paying agent, Registrar and Transfer Company, is holding remaining assets for shareholders who have not been located. Any assets remaining after two transmittal letters have been sent to a shareholder's last address of record will escheat to the relevant state. Expenses of $213,811 incurred in connection with the liquidation were paid by applicant.

Filing Date: The application was filed on March 30, 2005.

Applicant's Address: 11785 Beltsville Dr., Suite 1600, Beltsville, MD 20705.

Weitz Series Fund, Inc. [File No. 811-5661]; Weitz Partners, Inc. [File No. 811-7918]

Summary: Each applicant seeks an order declaring that it has ceased to be an investment company. On March 31, 2004, each applicant transferred its assets to The Weitz Funds, based on net asset value. Expenses of $275,950 and $177,081, respectively, incurred in connection with the reorganizations were paid by each applicant.

Filing Date: The applications were filed on March 15, 2005.

Applicants' Address: Suite 600, 1125 South 103 St., Omaha, NE 68124-6008.

The Corporate Fund Accumulation Program, Inc. [File No. 811-2642]

Summary: Applicant seeks an order declaring that it has ceased to be an investment company. On April 7, 2003, applicant transferred its assets to Core Bond Portfolio, a portfolio of Merrill Lynch Bond Fund, Inc., based on net asset value. Expenses of $103,701 incurred in connection with the reorganization were paid by the surviving fund.

Filing Date: The application was filed on March 11, 2005.

Applicant's Address: 800 Scudders Mill Rd., Plainsboro, NJ 08543-9011.

The Municipal Fund Accumulation Program, Inc. [File No. 811-2694]

Summary: Applicant seeks an order declaring that it has ceased to be an investment company. On April 5, 2004, applicant transferred its assets to National Portfolio, a portfolio of Merrill Lynch Municipal Bond Fund, Inc., based on net asset value. Expenses of $230,851 incurred in connection with the reorganization were paid by the surviving fund.

Filing Date: The application was filed on March 11, 2005.

Applicant's Address: 800 Scudders Mill Rd., Plainsboro, NJ 08543-9011.

ASA Limited [File No. 811-833]

Summary: Applicant, a closed-end investment company, seeks an order declaring that it has ceased to be an investment company. On November 19, 2004, applicant transferred its assets to ASA (Bermuda) Limited, based on net asset value. Expenses of approximately $2,447,747 incurred in connection with the reorganization were paid by applicant and the surviving fund.

Filing Date: The application was filed on March 10, 2005.

Applicant's Address: Paddock View, 36 Wierda Rd. West, Sandton 2196, South Africa.

International Equity Portfolio [File No. 811-10567]

Summary: Applicant seeks an order declaring that it has ceased to be an investment company. On June 27, 2003, applicant made a liquidating distribution to its shareholders, based on net asset value. Applicant's transfer agent has established a money market fund account in which foreign tax reclaims are deposited for the benefit of applicant's shareholders. Periodic distributions will be made by the transfer agent to applicant's shareholders until no further foreign tax reclaims are owed. Expenses of less than $25 incurred in connection with the liquidation were paid by applicant.

Filing Date: The application was filed on March 22, 2005.

Applicant's Address: 6125 Memorial Dr., Dublin, OH 43017.

Van Kampen New Jersey Value Municipal Income Trust [File No. 811-6734]

Summary: Applicant, a closed-end investment company, seeks an order declaring that it has ceased to be an investment company. On May 18, 2001, applicant transferred its assets to Van Kampen Trust for Investment Grade New Jersey Municipals, based on net asset value. Applicant's preferred shares were converted into preferred shares of the acquiring fund on a one-for-one basis. Expenses of $224,000 incurred in connection with the reorganization were paid by applicant and the acquiring fund.

Filing Date: The application was filed on March 28, 2005.

Applicant's Address: 1221 Avenue of the Americas, New York, NY 10020.

Putnam High Income Opportunities Trust [File No. 811-7253]

Summary: Applicant, a closed-end investment company, seeks an order declaring that it has ceased to be an investment company. On January 24, 2005, applicant transferred its assets to Putnam High Income Bond Fund, based on net asset value. Expenses of $290,442 incurred in connection with the reorganization were paid by applicant, the acquiring fund and Putnam Investment Management LLC, applicant's investment adviser.

Filing Date: The application was filed on March 30, 2005.

Applicant's Address: One Post Office Sq., Boston, MA 02109.

Safeco Tax-Exempt Bond Trust [File No. 811-7300]

Summary: Applicant seeks an order declaring that it has ceased to be an investment company. On December 10, 2004, applicant transferred its assets to corresponding series of Pioneer Municipal Bond Fund, Pioneer Tax Free Income Fund, and Pioneer Series Trust II, based on net asset value. Expenses of $156,528 incurred in connection with the reorganization were paid by Symetra Financial Corporation, the parent company of Symetra Asset Management, applicant's former investment adviser, and Pioneer Investment Management, Inc., applicant's investment adviser.

Filing Dates: The application was filed on February 10, 2005, and amended on April 7, 2005.

Applicant's Address: Safeco Mutual Funds, 4854 154th Pl. NE, Redmond, WA 98052.

Safeco Managed Bond Trust [File No. 811-6667]

Summary: Applicant seeks an order declaring that it has ceased to be an investment company. On December 10, 2004, applicant transferred its assets to corresponding series of Pioneer Bond Fund, based on net asset value. Expenses of $43,379 incurred in connection with the reorganization were paid by Symetra Financial Corporation, the parent company of Symetra Asset Management, applicant's former investment adviser, and Pioneer Investment Management, Inc., applicant's investment adviser.

Filing Dates: The application was filed on February 10, 2005, and amended on April 7, 2005.

Applicant's Address: Safeco Mutual Funds, 4854 154th Pl. NE, Redmond, WA 98052.

Safeco Taxable Bond Trust [File No. 811-5574]

Summary: Applicant seeks an order declaring that it has ceased to be an investment company. On December 10, 2004, applicant transferred its assets to corresponding series of Pioneer High Yield Fund and Pioneer America Income Trust Fund, based on net asset value. Expenses of $101,636 incurred in connection with the reorganization were paid by Symetra Financial Corporation, parent company of Symetra Asset Management Company, applicant's former investment adviser, and Pioneer Investment Management, Inc., applicant's investment adviser.

Filing Dates: The application was filed on February 10, 2005, and amended on April 7, 2005.

Applicant's Address: Safeco Mutual Funds, 4854 154th Pl. NE, Redmond, WA 98052.

Safeco Common Stock Trust [File No. 811-6167]

Summary: Applicant seeks an order declaring that it has ceased to be an investment company. On December 10, 2004, applicant transferred its assets to corresponding series of Pioneer Value Fund, Pioneer Fund, Pioneer Growth Shares, Pioneer Mid Cap Value Fund, Pioneer Small Cap Value Fund, Pioneer Series Trust II, Pioneer Balanced Fund and Pioneer International Equity Fund, based on net asset value. Expenses of $781,076 incurred in connection with the reorganization were paid by Symetra Financial Corporation, the parent of Symetra Asset Management, applicant's former investment adviser, and Pioneer Investment Management, Inc., applicant's investment adviser.

Filing Dates: The application was filed on February 10, 2005, and amended on April 7, 2005.

Applicant's Address: Safeco Mutual Funds, 4854 154th Pl. NE, Redmond, WA 98052.

Safeco Money Market Trust [File No. 811-3347]

Summary: Applicant seeks an order declaring that it has ceased to be an investment company. On December 10, 2004, applicant transferred its assets to corresponding series of Pioneer Money Market Trust and Pioneer Series Trust II, based on net asset value. Expenses of $105,315 incurred in connection with the reorganization were paid by Symetra Financial Corporation, the parent company of Symetra Asset Management Company, applicant's former investment adviser, and Pioneer Investment Management, Inc., applicant's investment adviser.

Filing Dates: The application was filed on February 10, 2005, and amended on April 7, 2005.

Applicant's Address: Safeco Mutual Funds, 4854 154th Pl. NE, Redmond, WA 98052.

Oppenheimer Europe Fund [File No. 811-9097]

Summary: Applicant seeks an order declaring that it has ceased to be an investment company. On October 17, 2003, applicant transferred its assets to Oppenheimer Global Fund, based on net asset value. Expenses of $30,295 incurred in connection with the reorganization were paid by applicant.

Filing Dates: The application was filed on September 7, 2004, and amended on March 28, 2005.

Applicant's Address: 6803 South Tucson Way, Centennial, CO 80112.

Oppenheimer World Bond Fund [File No. 811-5670]

Summary: Applicant seeks an order declaring that it has ceased to be an investment company. On February 16, 2001, applicant transferred its assets to Oppenheimer International Bond Fund, based on net asset value. Less than $60,200 in expenses were incurred in connection with the reorganization and were paid by applicant.

Filing Dates: The application was filed on August 9, 2002, and amended on April 18, 2005.

Applicant's Address: OppenheimerFunds, Inc., 6803 South Tucson Way, Englewood, CO 80112.

Smith Barney Shearson Telecommunications Trust [File No. 811-3766]

Summary: Applicant seeks an order declaring that it has ceased to be an investment company. On March 12, 2004, applicant made a liquidating distribution to its shareholders, based on net asset value. Expenses of $70,489 incurred in connection with the liquidation were paid by Smith Barney Fund Management LLC, applicant's investment adviser. Applicant has paid $450 in accounting expenses incurred in connection with the liquidation and has retained $13,766 in cash, which is being held by applicant's custodian, State Street Bank & Trust Co., to cover additional outstanding liabilities.

Filing Dates: The application was filed on July 28, 2004, and amended on April 7, 2005.

Applicant's Address: 125 Broad St., New York, NY 10004.

Protective Investment Company [File No. 811-8674]

Summary: Applicant seeks an order declaring that is has ceased to be an investment company. On December 19, 2003, pursuant to a Plan and Agreement of Reorganization, all of the assets of the following portfolios of the applicant, Protective CORESM U.S. Equity Fund, Protective Capital Growth Fund, Protective Small Cap Value Fund, Protective International Equity Fund, and Protective Growth and Income Fund were acquired and substantially all of the liabilities were assumed, by certain investment portfolios of the Goldman Sachs Variable Insurance Trust (“GSVIT”). On December 19, 2003, pursuant to a Plan of Liquidation the assets of the Protective Global Income Fund were liquidated and the proceeds from such liquidation were distributed to shareholders of that portfolio. Expenses of approximately $1,068,007.39 were incurred in connection with the reorganization and liquidation. All counsel fees and legal expenses incurred in connection with the plan of reorganization were paid by Protective Investment Advisors, Inc. (“PIA”) and all other fees and expenses were shared by PIA and Goldman Sachs Asset Management, L.P., the investment adviser to GSVIT.

Filing Date: January 5, 2005.

Applicant's Address: 2801 Highway 280 South, Birmingham, Alabama 35223.

For the Commission, by the Division of Investment Management, pursuant to delegated authority.
J. Lynn Taylor,
Assistant Secretary.

[FR Doc. E5-2202 Filed 5-5-05; 8:45 am]

BILLING CODE 8010-01-P